DEPARTMENT OF TRANSPORTATION

Office of the Secretary

Notice of Applications for Certificates of Public Convenience and Necessity and Foreign Air Carrier Permits Filed Under Subpart B (Formerly Subpart Q) During the Week Ending May 12, 2012

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0075.

Date Filed: May 11, 2012.

Due Date for Answers, Conforming Applications, or Motion to Modify Scope: June 1, 2012.

Description: Application of Norwegian Air Shuttle ASA requesting exemption authority and a foreign air carrier permit to enable it to conduct (1) foreign scheduled and charter air transportation of persons, property and mail between points behind Norway, via Norway and intermediate points, and any point or points in the United States and beyond; and (2) foreign scheduled and charter air transportation of persons, property and mail to the full extent permitted under the U.S.-EU (EU-Iceland, Norway) Air Transport Agreement.

Renee V. Wright,
Program Manager, Docket Operations, Federal Register Liaison.

[FR Doc. 2012-12753 Filed 5-24-12; 8:45 am]

BILLING CODE 4910-9X-P